DEPARTMENT OF JUSTICE

Notice of Lodging of Proposed Consent Decree Under the Clean Air Act

Notice is hereby given that on August 6, 2010, a proposed Consent Decree in United States v. Premix, Inc., Civil Action No. 1:10-cv-01732-DAP was lodged with the United States District Court for the Northern District of Ohio.

In this action, the United States sought injunctive relief and assessment of civil penalties for various violations under the Clean Air Act (“CAA”), 42 U.S.C. 7401 et seq., at a plant owned and operated by Premix, Inc. (“Premix”) in North Kingsville, Ohio. Specifically, the complaint filed by the United States alleges violations of (1) Emission limits set forth in Ohio Administrative Code (“OAC”) 3745-21-07(g)(2), which is part of the federally enforceable Ohio State Implementation Plan (“Ohio SIP”) for volatile organic compounds; (2) emission limits in the permit-to-install issued to Premix pursuant to OAC 3745-31-05(A)(3), which is also part of the Ohio SIP; (3) various record keeping and reporting requirements set forth in the permit issued to Premix pursuant to Title V of the CAA, 33 U.S.C. 7661-7661f; and (4) an information request issued by the U.S. Environmental Protection Agency (“EPA”) pursuant to Section 114 of the CAA, 33 U.S.C. 7414. Under the proposed Consent Decree, Premix is required to operate an emission control system (“ECS”) that meets and exceeds applicable emission limits under the Ohio SIP, Premix's permit-to-install and Title V permit. Premix shall demonstrate compliance with such emission limits by monitoring control parameters that EPA shall establish based upon the demonstrated performance of the ECS. Finally, the proposed settlement will also require Premix to pay a civil penalty of $400,000.

The Department of Justice will receive for a period of thirty (30) days from the date of this publication comments relating to the proposed Consent Decree. Comments should be addressed to the Assistant Attorney General, Environment and Natural Resources Division, and either e-mailed to pubcomment-ees.enrd@usdoj.gov or mailed to P.O. Box 7611, U.S. Department of Justice, Washington, DC 20044-7611, and should refer to United States v. Premix, Inc., D.J. Ref. 90-5-2-1-09272.

The proposed Consent Decree may be examined at the Office of the United States Attorney, 801 West Superior Avenue, Suite 400, Cleveland, Ohio, and at U.S. EPA Region 5, 77 West Jackson Boulevard, Chicago, Illinois 60604. During the public comment period, the proposed Consent Decree may also be examined on the following Department of Justice website, too: http://www.usdoj.gov/enrd/Consent_Decrees.html. A copy of the proposed Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $12.25 (25 cents per page reproduction cost) payable to the U.S. Treasury or, if by e-mail or fax, forward a check in that amount to the Consent Decree Library at the stated address.

Maureen Katz,
Assistant Chief, Environmental Enforcement Section, Environment and Natural Resources Division.

[FR Doc. 2010-20114 Filed 8-13-10; 8:45 am]

BILLING CODE 4410-15-P